DEPARTMENT OF ENERGY

[OE Docket No. EA-376]

Application To Export Electric Energy; Societe Generale Energy Corp.

AGENCY: Office of Electricity Delivery and Energy Reliability, DOE.

ACTION: Notice of application.

SUMMARY: Societe Generale Energy Corp. (SGEC) has applied for authority to transmit electric energy from the United States to Canada pursuant to section 202(e) of the Federal Power Act.

DATES: Comments, protests, or requests to intervene must be submitted on or before April 1, 2011.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Christopher Lawrence (Program Officer) 202-586-5260 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On February 2, 2011, DOE received an application from the SGEC for authority to transmit electric energy from the United States to Canada as a power marketer for a ten-year term using existing international transmission facilities. The SGEC does not own any electric transmission facilities nor does it hold a franchised service area.

The electric energy that the SGEC proposes to export to Canada would be surplus energy purchased from electric utilities, Federal power marketing agencies and other entities within the United States. The existing international transmission facilities to be utilized by the SGEC have previously been authorized by Presidential permits issued pursuant to Executive Order 10485, as amended, and are appropriate for open access transmission by third parties.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the SGEC application to export electric energy to Canada should be clearly marked with Docket No. EA-376. Additional copies are to be filed directly with Allison Cyr, MARK Compliance, Societe Generale Corporate & Investment Banking, 1221 Avenue of the Americas, New York, NY 10020 and Vincenzo Franco, Van Ness Feldman, P.C., Seventh Floor, Washington, DC 20007. A final decision will be made on this application after the environmental impacts have been evaluated pursuant to DOE's National Environmental Policy Act Implementing Procedures (10 CFR part 1021) and after a determination is made by DOE that the proposed action will not adversely impact on the reliability of the U.S. electric power supply system.

Copies of this application will be made available, upon request, for public inspection and copying at the address provided above, by accessing the program Web site at http://www.oe.energy.gov/permits_pending.htm, or by emailing Odessa Hopkins at Odessa.hopkins@hq.doe.gov.

Issued in Washington, DC, on February 23, 2011.
Anthony J. Como,
Director, Permitting and Siting, Office of Electricity Delivery and Energy Reliability.

[FR Doc. 2011-4645 Filed 3-1-11; 8:45 am]

BILLING CODE 6450-01-P